FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—12/26/2000
20010829 | Sanrise Group, Inc | Exodus Communications, Inc | Exodus Communities, Inc.
20010834 | Westmoreland Health System | Frick Health System | Frick Health System.
Transactions Granted Early Termination—12/27/2000
20010941 | GMT Communications Partners II, L.P | Formus Communications | Formus Communications Inc.
20010958 | TeleCorp PCS, Inc | Marshall W. Pagon | Pegasus PCS Partners, L.P.
20010959 | IVAX Corporation | Jinn Wu and Diana Wu, (husband & wife) | Xenobiotic Laboratories, Inc.
20010970 | Verizon Communications Inc | James & Jean Douglas Irrevocable Descendant's Trust | Illinois Nine Corporation.
20011007 | Zhone Technologies, Inc | Ind-TeleSoft Pvt. Ltd. | Xybridge Technologies, Inc.
20011028 | Leap Wireless International, Inc | Cook Inlet Region, Inc. | CIVS IV License Sub I, LLC.
20011033 | Nippon Telegraph and Telephone Corporation | AT&T Corp | AT&T Corp.
20011040 | Bank of Montreal | Alexander J. Vogl | Wilton Corporation.
20011051 | Mitsui Marine and Fire Insurance Co., Ltd | American Financial Group, Inc | American Financial Group, Inc.
20011062 | Universal Insurance Group, Inc | Nationwide Mutual Insurance Company | Caribbean Alliance Insurance Company.
20011067 | ABN AMRO Holding N.V | Alleghany Corporation | Alleghany Asset Management, Inc.
20011073 | TSG3 L.P | The Proctor & Gamble Company | The Proctor & Gamble Company.
20011076 | Deere & Company | FdG Capital Partners LLC | McGinnis Farms, Inc.
20011079 | Resurrection Health Care Corporation | Sisters of the Holy Family of Nazareth-Sacred Heart Province | Sisters of the Holy Family of Nazareth-Sacred Heart Province.
20011080 | Bank of America Corporation | CAF Holdings, Inc | CAF Holdings, Inc.
20011091 | Morgenthaler Partners VI, L.P | Catena Networks, Inc | Catena Networks, Inc.
Transactions Granted Early Termination—12/29/2000
20010975 | Welsh, Carson, Anderson & Stowe VII, L.P | OrthoLink Physicians Corporation | OrthoLink Physicians Corporation.
20010984 | Sprout Capital IX, L.P | Credit Suisse Group | Focus Technologies, Inc.
20011015 | SBC Communications Inc | VoiceStream Wireless Corporation | Omnipoint NY MTA License, LLC.
20011016 | VoiceStream Wireless Corporation | SBC Communications Inc | Pacific Telesis Mobile Services LLC.
20011023 | Internet Capital Group, Inc | Logistics.com, Inc | Logistics.com, Inc.
20011042 | Silverline Technologies Limited | SeraNova, Inc | SeraNova, Inc.
20011058 | DST Systems, Inc | Bank One Corporation | EquiServe Limited Partnership.
20011061 | M. Francçiois Pinault | George A. & Kay A. Wilson | Ryall Electric Supply Company.
20011071 | Lee R. Anderson, Sr | James Doody | Doody Mechanical, Inc.
20011085 | Oak Investment Partners IX, Limited Partnership | Michael J. Noonan | Fiber Optic Network Solutions Corp.
20011086 | Morgenthaler Partners VI, L.P | Michael J. Noonan | Fiber Optic Network Solutions Corp.
20011093 | Sun Microsystems, Inc | HighGround Systems, Inc. | HighGround Systems, Inc
20011096 | VNU N.V | VNU N.V | Entertainment Marketing Information Systems.
20011101 | Sanofi-Synthelabo | Atrix Laboratories, Inc | Atrix Laboratories, Inc.
20011102 | Parsons Corporation | Harold W. Wyatt, Jr. | H.E. Hennigh, Inc.
20011109 | Motiva Enterprises LLC | R.R. Morrison & Son, Inc | R.R. Morrison & Son, Inc.
20011112 | ALZA Corporation | Pharmaceutical Development, Inc | Genupro, Inc.
20011116 | 2000 Riverside Capital Appreciation Fund, L.P | Donald H. Drew | DHD Healthcare Corporation.
20011117 | 2000 Riverside Capital Appreciation Fund, L.P | Bruce J. Drew | DHD Healthcare Corporation.
20011118 | Sandy Springs Bancorp, Inc | Progress Financial Corporation | Progress Financial Corporation
20011121 | Metro National Corporation | Saltgrass, Inc. | Saltgrass, Inc.
20011131 | UBS Capital Americas II, LLC | Oresis Communications, Inc | Oresis Communications, Inc.
20011133 | United Rentals, Inc | Harold W. Wiese | Wiese Planning & Engineering.
20011137 | General Electric Company | General Electric Company | Curtis Power Co., LLC.
20011139 | Robert Bosch Industrietreuhand KG | Detection Systems, Inc | Detection Systems, Inc.
20011142 | Aegis Group plc | Stanford Nygard | Outdoor Vision.
20011143 | Aegis Group plc | Sterling Pile, III | Outdoor Vision.
20011150 | Hvide Marine Incorporated | Hvide Marine Incorporated | Lightship Partners, LP.
20011155 | Ford Motor Company | Ford Motor Company | FRN of Rochester, LLC.
20011157 | Bank of America Corporation | Cupertino Electric, Inc | Cupertino Electric, Inc.
20011163 | Voting Shares Irrevocable Trust | Hans P. Utsch | Edgemont Asset Management Corporation.
20011164 | Voting Shares Irrevocable Trust | Lawrence Auriana | Edgemont Asset Management Corporation.
20011166 | Norman P. Creighton | Comerica Incorporated | Comercia Incroporated.
20011169 | Wolters Kluwer nv | Loislaw.com, Inc | Losilaw.com, Inc.
20011172 | Wolseley plc | Vernon Mountcastle, Jr | Interior Distributors, Inc.
20011174 | Olympus Growth Fund III, L.P | Griffin Land & Nuseries, Inc | Griffin Land & Nurseries, Inc.
20011175 | Thoma Cressey Fund VI, L.P | Phillip D. Whisenhunt | CMS Wireless, LLC.
20011186 | Linsalata Capital Partners Fund III, L.P | Kevco, Inc | Kevco, Inc.
Transactions Granted Early Termination—01/02/2001
20010916 | Brinker International, Inc | NERC Limited Partnership; NERC Limited Partnership II | NE Restaurant Company, Inc.
20011126 | Apax Europe IV-A, L.P | CenterBeam, Inc. | CenterBeam, Inc.
20011128 | ICVF 1999, L.P | Allegro Networks, Inc | Allegro Networks, Inc.
20011129 | Michael Devlin | Rational Software Corporation | Rational Software Corporation.
Transactions Granted Early Termination—01/03/2001
20010994 | Macromedia, Inc | Atom Corporation | Atom Corporation.
20011069 | Royal Dutch Petroleum Company | Woodside Petroleum Ltd | Woodside Petroleum Ltd.
Transactions Granted Early Termination—01/04/2001
20010960 | Allied Waste Industries, Inc | Republic Services, Inc | Republic Services of Pennsylvania, LLC.
20011010 | Richard E. Jordan, II | Strongco, Inc. | Strongco (USA), Inc.
20011084 | Insilco Holding Co | InNet Technologies, Inc | InNet Technologies, Inc.
20011105 | Siemens AG | Ramtron International Corporation | Ramtron International Corporation.
20011146 | George L. Graziadio, Jr | Comercia Incorporated | Comerica Incorporated
20011148 | Harvest Partners III, L.P | Frank Defino, Sr | Tukaiz Communications, L.L.C.
20011149 | Harvest Partners III, L.P | Matthews International Corporation | Tukaiz Communications, L.L.C.
20011168 | Mohawk Industries, Inc | Burlington Industries, Inc | The Bacova Guild, Ltd.
Transactions Granted Early Termination—01/05/2001
20010698 | ANTEC Corporation | Nortel Networks Corporation | Arris Interactive L.L.C.
20010699 | Nortel Networks Corporation | ANTEC Corporation | Newco.
20010943 | Xcel Energy Inc | LS Power, LLC | Grantie Power Partners, II, L.P., LS Power Management, LLC.
20010972 | Mr. Lloyd Dorfman | Preussag Aktiengesellschaft | Thomas Cook Inc.
20011047 | Asyst Technologies, Inc | Advanced Machine Programming, Inc. | Advanced Machine Programming, Inc.
20011134 | Morgan Stanley Dean Wittner & Co | AMR Corporation | AMR Corporation.
20011153 | Safeguard Scientifics, Inc | MicroAge, Inc. | MicroAge, Inc.
200179 | Artal Group S.A | Weighco Enterprise, Inc | Weighco Enterprise, Inc.
20011181 | Professionals Group, Inc | Medical Assurance, Inc | Medical Assurance, Inc.
20011182 | Medical Assurance, Inc | Professionals Group, Inc | Professionals Group, Inc.
20011183 | A. Derrill Crowe, M.D | ProAssurance Corporation | ProAssurance Corporation.
20011189 | Andrew McKelvey | Tomasz L. Schellenberg | ADEPT, Inc.

FOR FURTHER INFORMATION CONTACT: Sandra M. Peay or Parcellena P. Fielding, Contact Representatives. Federal Trade Commission, Premerger Notification Office, Bureau of Competition, Room 303, Washington, DC 20580, (202) 326-3100.

By Direction of the Commission.
Donald S. Clark,
Secretary.

[FR Doc. 01-2044 Filed 1-22-01; 8:45am]

BILLING CODE 6750-01-M